DEPARTMENT OF AGRICULTURE

Agricultural Marketing Service

[Docket # AMS-FV-2007-0007; FV-06-309]

United States Standards for Grades of Tomatoes on the Vine

AGENCY: Agricultural Marketing Service, USDA.

ACTION: Notice.

SUMMARY: The Agricultural Marketing Service (AMS), of the Department of Agriculture (USDA) is soliciting comments on the proposed voluntary United States Standards for Grades of Tomatoes on the Vine. The proposed standards would provide industry with a common language and uniform basis for trading, thus promoting the orderly and efficient marketing of tomatoes on the vine (TOV).

DATES: Comments must be received by April 17, 2007.

ADDRESSES: Interested persons are invited to submit written comments on the Internet at http://www.regulations.gov or to the Standardization Section, Fresh Products Branch, Fruit and Vegetable Programs, Agricultural Marketing Service, U.S. Department of Agriculture, 1400 Independence Ave., SW., Room 1661 South Building, Stop 0240, Washington, DC 20250-0240; Fax (202) 720-8871. Comments should make reference to the dates and page number of this issue of the Federal Register and will be made available for public inspection in the above office during regular business hours.

FOR FURTHER INFORMATION CONTACT: Vincent J. Fusaro, Standardization Section, Fresh Products Branch, (202) 720-2185. The United States Standards for Grades of Tomatoes on the Vine are available through the Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade, and packaging, and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Programs.

AMS is proposing to establish voluntary United States Standards for Grades of Tomatoes on the Vine using the procedures that appear in Part 36, Title 7 of the Code of Federal Regulations (7 CFR part 36).

Background

AMS published a notice in the Federal Register (68 FR 68859) on December 10, 2003, soliciting comments on the possible revision of the United States Standards for Grades of Greenhouse Tomatoes. AMS published a subsequent notice in the Federal Register (69 FR 12299) on March 16, 2004, extending the period for comments. Further, after the comment period, AMS prepared a discussion draft of the proposed greenhouse tomato standard, and distributed copies for input to all commenters, industry associations, and other interested persons. Based on input from the notices and the discussion draft, AMS has determined that there is a need for a separate standard specifically for TOV, and an increase to the proposed tolerance for tomatoes detached from the stem/vine from 5 percent to 10 percent.

AMS published a notice in the Federal Register (71 FR 30367) on May 26, 2006, soliciting comments on the proposed voluntary United States Standards for Grades of Tomatoes on the Vine. The proposed standards for TOV contain the following grades as well as a tolerance for each grade: U.S. No. 1 and U.S. No. 2. In addition, “Application of Tolerances” and “Size Classifications” sections are included. This proposal also defines “Damage,” “Serious Damage,” specific basic requirements, and other defects. In response to our request for comments, AMS received six comments on the proposed standards. One from an industry group representing receivers, one from an international trade organization, one from a foreign trade organization, one from a foreign government agency, one from a foreign industry alliance representing its agricultural interest throughout North America, and one from a domestic producer. The comments are available by accessing the AMS, Fresh Products Branch Web site at: http://www.ams.usda.gov/fv/fpbdocketlist.htm.

AMS received four comments requesting that cherry-type tomatoes and grape-type tomatoes be excluded from the TOV standard based on the fact that their stems tend to be more brittle with higher shatter, which has led to the marketing of these varieties in individually wrapped containers instead of bulk. AMS agrees that current marketing practices warrant excluding cherry-type tomatoes and grape-type tomatoes from the TOV standards.

Three comments expressed concern that the defects should be scored based on the count of the tomatoes in the containers and not the total number of bunches in the containers. The standards provide for the scoring of defects, including defects affecting the stems to be based on the individual tomato and not the bunch. For defects affecting the lateral stem, the scoring will be based on the individual tomato, and for defects affecting the main stem the scoring will be based on the number of the tomatoes on the cluster.

Three comments expressed concerns about the proposed tolerances for tomatoes that are detached from the stem/vine stating that the tolerances do not seem to be based on any available data. The commenters also requested that this tolerance be revisited after the standard has been in effect and the results of the inspections are better known. The tolerance for tomatoes that are detached from the stem/vine is based upon industry input that was provided from the discussion draft for the greenhouse tomatoes. Further, if the industry feels that the tolerance needs to be revisited at a future date, AMS will work with the industry to address their concerns. It was also expressed that the inspectors should be encouraged to minimize handling of the TOV before making the calculation regarding shatter. The tolerance for tomatoes that are detached from the stem/vine is based on the normal handling of the product. As with all commodities, inspectors are instructed to always handle the product in the proper fashion as to not cause any additional defects to occur or become more prevalent.

Three comments requested that the size section be removed from the standards, given the degrees and variations of size of individual tomatoes within a cluster as well as a carton of TOV. Even though size would not be part of the grade for tomatoes on the vine, size would be an option for those who choose to specify size. The size section provides sufficient flexibility in order to provide marketers the option to specify size. In turn, marketers that prefer not to specify a size are not required to do so.

Two comments expressed that the standards appear to read that moldy stems would be classified under the other comments section of a certificate during an inspection, but would not be scored against the U.S. No. 1 grade. The basic requirements of the U.S. No. 1 and U.S. No. 2 grades state that, “The vines shall not be brittle and shall be free from decay; and free from damage by mold or any other means.” and “The vines shall not be brittle and shall be free from decay; and free from serious damage by mold or other means.” respectively. Therefore, moldy stems would be scored as a defect in all U.S. grades of TOV.

One comment requested that a color section similar to how color is handled in the U.S. Standards for Grades of Fresh Tomatoes be added in order to provide additional guidance during the inspection process. The growing, ripening, and handling practices of TOV are very different from fresh tomatoes. Further, the proposed maturity requirements also require a color break of not less than ten percent. Therefore, a separate color section would not be necessary for TOV.

Finally one commenter stated that they would use these new standards for trade purposes. The proposed TOV standards would provide a common language for trade and a means of measuring value in the marketing of this commodity. The official grade of a lot of TOV covered by these standards will be determined by the procedures set forth in the Regulations Governing Inspection, Certification, and Standards of Fresh Fruits, Vegetables, and Other Products (Sec. 51.1 to 51.61).

This notice provides a 60-day comment period for interested parties to comment on the proposed United States Standards for Grades of Tomatoes on the Vine.

(Authority: 7 U.S.C. 1621-1627.)

Dated: February 12, 2007.
Lloyd C. Day,
Administrator, Agricultural Marketing Service.

[FR Doc. E7-2731 Filed 2-15-07; 8:45 am]

BILLING CODE 3410-02-P